DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by May 19, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Annual State Report on Verification of Supplemental Nutrition Assistance Program (SNAP) Participation.

OMB Control Number: 0584-0605.

Summary of Collection: SNAP regulations at 7 CFR 273.16 require that State agencies disqualify an individual who has committed an intentional program violation (IPV). Paragraph 7 CFR 273.16(e)(8) requires that these individuals “be disqualified in accordance with the disqualification periods and procedures in paragraph (b) of this section” (273.16(b)). Paragraph 7 CFR 273.16(i) requires State agencies to report information concerning each individual disqualified for an IPV to the disqualified recipient database, the electronic Disqualified Recipient System (eDRS), and to use eDRS data to determine the eligibility of individual applicants prior to certification. SNAP regulations at 7 CFR 272.14 require that each State agency establish a system to verify and ensure that benefits are not issued to individuals who are deceased, and that data source is the Social Security Administration's (SSA) Death Master File. The information required for the Annual State Report on Verification of SNAP Participation is obtained by validating that the State had the appropriate systems in place and followed procedures currently mandated at 7 CFR 272.14 and 7 CFR 273.16 for the preceding fiscal year.

Need and Use of the Information: The information required for the Annual State Report on Verification of SNAP Participation is obtained by validating that the State agency had the appropriate systems in place and followed procedures currently mandated at 7 CFR 272.14 and 7 CFR 273.16 for the preceding fiscal year. State agencies must annually confirm, by stating in one email to their FNS Regional SNAP Program Director, that the appropriate systems were in place in the State to meet the requirements of regulations at 7 CFR 272.14 and 273.16(i)(4), and that they conducted the matches required by these regulations. States are required to submit their Section 4032 reports to the FNS Regional SNAP Director by March 31 each year for the preceding Federal fiscal year. 7 CFR 272.1(f) mandates that State agencies are required to retain all records associated with the administration of SNAP for no less than 3 years.

Description of Respondents: State, Local, or Tribal government.

Number of Respondents: 106.

Frequency of Responses: Reporting: Annually.

Total Burden Hours: 119.

Dated: April 14, 2022.
Ruth Brown,
Departmental Information Collection Clearance Officer.

[FR Doc. 2022-08333 Filed 4-18-22; 8:45 am]

BILLING CODE 3410-30-P